ENVIRONMENTAL PROTECTION AGENCY

[EPA-HQ-OW-2022-0097; FRL-9455-01-OW]

National Pollutant Discharge Elimination System (NPDES) Industrial Stormwater Fact Sheet Series

AGENCY: Environmental Protection Agency (EPA).

ACTION: Notice; request for public input.

SUMMARY: The U.S. Environmental Protection Agency (EPA or Agency) is seeking public input on updating the National Pollutant Discharge Elimination System (NPDES) Industrial Stormwater Fact Sheet Series (hereinafter referred to as “the fact sheets”). EPA's industrial stormwater program has 29 fact sheets currently posted online for each sector covered under the 2021 Multi-Sector General Permit (MSGP) for stormwater discharges from industrial activity. Each fact sheet describes the types of facilities included in the sector, typical stormwater pollutants associated with the sector, and types of stormwater control measures (SCMs) that may be used to minimize the discharge of the pollutants. EPA is seeking public input on the fact sheets, particularly focused on updating: Common activities, pollutant sources, and associated pollutants at facilities in each sector; and SCMs or best management practices (BMPs), including source control and good housekeeping/pollution prevention measures for potential pollutant sources at facilities in each sector. In updating the fact sheets, EPA will consider input received in response to this notice as well as any relevant comments related to the content of the fact sheets that the Agency received during the public comment period for the proposed 2021 MSGP. The fact sheets can be found in the docket and at https://www.epa.gov/npdes/stormwater-discharges-industrial-activities-fact-sheets-and-guidance.

DATES: Comments on the fact sheets must be received on or before March 28, 2022.

ADDRESSES: You may send comments, identified by Docket ID No. EPA-HQ-OW-2022-0097, by the following method:

• Federal eRulemaking Portal: https://www.regulations.gov/. Follow the online instructions for submitting comments.

Instructions: All submissions received must include the Docket ID No. for this rulemaking. Comments received may be posted without change to https://www.regulations.gov/, including any personal information provided. For detailed instructions on sending comments, see the “Public Participation” heading of the SUPPLEMENTARY INFORMATION section of this document. Out of an abundance of caution for members of the public and our staff, the EPA Docket Center and Reading Room are open to the public by appointment only to reduce the risk of transmitting COVID-19. Our Docket Center staff also continues to provide remote customer service via email, phone, and webform. Hand deliveries and couriers may be received by scheduled appointment only. For further information on EPA Docket Center services and the current status, please visit us online at https://www.epa.gov/dockets.

FOR FURTHER INFORMATION CONTACT: Katelyn Amraen, EPA Headquarters, Office of Water, Office of Wastewater Management (MC 4203M), 1200 Pennsylvania Avenue NW, Washington, DC 20460; telephone number: 202-564-2740; email address: amraen.katelyn@epa.gov.

SUPPLEMENTARY INFORMATION:

I. Public Participation

Submit your comments, identified by Docket ID No. EPA-HQ-OW-2022-0097, at https://www.regulations.gov. Once submitted, comments cannot be edited or removed from the docket. The EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

II. Background

EPA's industrial stormwater program has 29 fact sheets currently posted online for each sector covered under the MSGP and shown below:

Sector A—Timber Products.

Sector B—Paper and Allied Products Manufacturing.

Sector C—Chemical and Allied Products Manufacturing.

Sector D—Asphalt Paving and Roofing Materials Manufactures and Lubricant Manufacturers.

Sector E—Glass, Clay, Cement, Concrete, and Gypsum Product Manufacturing.

Sector F—Primary Metals.

Sector G—Metal Mining (Ore Mining and Dressing).

Sector H—Coal Mines and Coal Mining-Related Facilities.

Sector I—Oil and Gas Extraction.

Sector J—Mineral Mining and Dressing.

Sector K—Hazardous Waste Treatment Storage or Disposal.

Sector L—Landfills and Land Application Sites.

Sector M—Automobile Salvage Yards.

Sector N—Scrap Recycling Facilities.

Sector O—Steam Electric Generating Facilities.

Sector P—Land Transportation.

Sector Q—Water Transportation.

Sector R—Ship and Boat Building or Repairing Yards.

Sector S—Air Transportation Facilities.

Sector T—Treatment Works.

Sector U—Food and Kindred Products.

Sector V—Textile Mills, Apparel, and other Fabric Products Manufacturing.

Sector W—Furniture and Fixtures.

Sector X—Printing and Publishing.

Sector Y—Rubber, Miscellaneous Plastic Products, and Miscellaneous Manufacturing Industries.

Sector Z—Leather Tanning and Finishing.

Sector AA—Fabricated Metal Products.

Sector AB—Transportation Equipment, Industrial or Commercial Machinery.

Sector AC—Electronic, Electrical, Photographic and Optical Goods.

Each fact sheet describes the types of facilities included in the sector, typical stormwater pollutants associated with the sector, and types of SCMs that may be used to minimize the discharge of the pollutants. The fact sheets are used by permittees, industrial stormwater stakeholders, and state/territory NPDES permitting authorities on a voluntary basis as a reference tool and informational resource. EPA currently does not mandate the use of the fact sheets for permit compliance or otherwise under the NPDES industrial stormwater program.

As part of a 2016 MSGP settlement agreement, EPA agreed to and proposed the following changes in the proposed 2021 MSGP:

• Review and revise “the MSGP's sector-specific fact sheets to incorporate emerging SCMs that reflect BAT [Best Available Technology Economically Achievable] and BCT [Best Conventional Pollutant Control Technology], as revealed by current industry practice and as may be reflected in the NRC Study, as EPA deems appropriate.” ¹

¹ The “NRC Study” refers to a study funded by EPA and conducted by the National Academies of Sciences, Engineering, and Medicine's National Research Council (NRC) that was completed in February of 2019. The NRC study can be found at the following website: https://www.nap.edu/catalog/25355/improving-the-epa-multi-sector-general-permit-for-industrial-stormwater-discharges.

• Propose, as part of Additional Implementation Measures (AIM) Tier 2, “the operator must implement all feasible control measures in the relevant sector-specific fact sheet . . .”

EPA fulfilled these terms from the 2016 MSGP settlement agreement in the proposed 2021 MSGP by incorporating a portion of the revised fact sheets into the proposed permit as sector specific SCM checklists in permit “Appendix Q.” Ultimately, based on public comments, EPA did not finalize that the SCM checklists in Appendix Q or the associated requirement to implement the controls under AIM Tier 2, nor did EPA post the revised versions of the proposed checklists online. Instead, EPA retained the sector-specific fact sheets as guidance documents and revised each of them to include practices that operators could use to minimize per- and polyfluoroalkyl substances (PFAS) in stormwater discharges. For a detailed summary of the comments EPA received on Appendix Q and the Agency's response to comments, please see Comment Response Essay 4 Proposals Not Finalized for “Appendix Q—Stormwater Control Measures” (page 60) in “Response to Public Comments EPA NPDES 2021 Multi-Sector General Permit (MSGP)” which can be found in the docket for the 2021 MSGP under Document ID number EPA-HQ-OW-2019-0372-0349 or at the following website: https://www.regulations.gov/document/EPA-HQ-OW-2019-0372-0349.

Even though EPA did not finalize Appendix Q, the Agency recognized the need to evaluate and potentially revise the fact sheets in the near future. In the final 2021 MSGP Federal Register Notice, EPA stated in two instances that:

• “EPA plans to work with external stakeholders to thoroughly revise the sector-specific fact sheets” (86 FR 10269, 10274, February 19, 2021), and

• “EPA will continue to work with stakeholders to further update these sector-specific fact sheets with additional emerging stormwater control measures that could be used by industrial operators” (86 FR 10269, 10275, February 19, 2021 (specific to PFAS)).

IV. Approach To Obtain Stakeholder Input on Fact Sheets

Based on EPA's commitment in the final 2021 MSGP Federal Register Notice, EPA is now seeking feedback on appropriate updates and revisions to the 29 industrial stormwater fact sheets related to the two main tables in each fact sheet:

(1) Common activities, pollutant sources, and associated pollutants at facilities in each sector, and

(2) SCMs or BMPs including source control and good housekeeping/pollution prevention measures for potential pollutant sources at facilities in each sector.

The fact sheets can be found in the docket and at https://www.epa.gov/npdes/stormwater-discharges-industrial-activities-fact-sheets-and-guidance.

To assist EPA in reviewing and evaluating public input, please consider the following when preparing your comments for the Agency:

• Where possible, organize comments by referencing a specific fact sheet (e.g., “Sector A”) and the paragraph, table, or part of the fact sheet.

• Explain as clearly as possible why you agree or disagree with the current fact sheet language.

• Suggest alternatives and substitute language for any requested changes.

• Describe any assumptions and provide any technical information and/or data that you used.

• Provide specific examples to illustrate your concerns.

In addition to considering the comments received in response to this Federal Register Notice, EPA will also consider the relevant comments related to the fact sheets that the Agency received during the public comment period for the proposed 2021 MSGP. Through this request for comment, EPA intends to afford commenters the opportunity to consider the full content of the fact sheets, rather than the subset of information that was proposed as “Appendix Q” of the proposed 2021 MSGP, since “Appendix Q” only contained the SCM checklist portion of the existing fact sheets. EPA encourages comment from all stakeholders, including smaller industry groups, individual permittees, and community and environmental groups.

EPA will assess the public input received and determine what changes to the fact sheets are appropriate and warranted, and what, if any, further research is needed to support the changes. EPA will then make changes to the fact sheets and post the updated fact sheets on the industrial stormwater website.

Dated: January 18, 2022.
Andrew D. Sawyers,
Director, Office of Wastewater Management, Office of Water.

[FR Doc. 2022-01382 Filed 1-24-22; 8:45 am]

BILLING CODE 6560-50-P